DEPARTMENT OF THE INTERIOR

National Park Service

[N6804; NPS-WASO-NAGPRA-NPS0041626; PPWOCRADN0-PCU00RP14.R50000]

Notice of Intended Repatriation: California Department of Transportation, Fresno, CA

AGENCY: National Park Service, Interior.

ACTION: Notice.

SUMMARY: In accordance with the Native American Graves Protection and Repatriation Act (NAGPRA), California Department of Transportation (Caltrans) intends to repatriate certain cultural items that meet the definition of objects of cultural patrimony and that have a cultural affiliation with the Indian Tribes or Native Hawaiian organizations in this notice.

DATES: Repatriation of the cultural items in this notice may occur on or after January 21, 2026.

ADDRESSES: Send additional, written requests for repatriation of the cultural items in this notice to Mandy Macias or Aubrie Morlet, California Department of Transportation, District 6, 1352 W Olive Avenue, Fresno, CA 93728, email mandy.macias@dot.ca.gov or aubrie.morlet@dot.ca.gov.

SUPPLEMENTARY INFORMATION: This notice is published as part of the National Park Service's administrative responsibilities under NAGPRA. The determinations in this notice are the sole responsibility of the Caltrans, and additional information on the determinations in this notice, including the results of consultation, can be found in the summary or related records. The National Park Service is not responsible for the determinations in this notice.

Abstract of Information Available

A total of 175 cultural items have been requested for repatriation. The 175 catalog numbers representing objects of cultural patrimony are ecofacts (faunal bone), flaked stone, and miscellaneous lithics. CA-KER-3558 and CA-KER-3559 are located in Kern County, California, near State Route 58. The collection is the result of the 1993 Archaeological Testing and Evaluation of CA-KER-3558 and CA-KER-3559, Fremont Valley, for the Proposed Mojave Bypass Project (EA 243400). The collection is controlled by Caltrans and curated at The University of California, Riverside (UCR), as Accession #225. The initial catalog recorded 76 catalog numbers, while the 2025 catalog verification confirmed 175 catalog numbers, all of which are present. Based on the information available and the results of consultation, cultural affiliation is clearly identified by the information available about the objects of cultural patrimony described in this notice. There are no known/documented potentially hazardous substances used to treat any of the cultural items.

Determinations

The Caltrans has determined that:

• The 175 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 21, 2026. If competing requests for repatriation are received, Caltrans must determine the most appropriate requestor prior to repatriation. Requests for joint repatriation of the cultural items are considered a single request and not competing requests. The Caltrans is responsible for sending a copy of this notice to the Indian Tribes and Native Hawaiian organizations identified in this notice and to any other consulting parties.

Authority: Native American Graves Protection and Repatriation Act, 25 U.S.C. 3004 and the implementing regulations, 43 CFR 10.9.

Dated: December 11, 2025.
Melanie O'Brien,
Manager, National NAGPRA Program.

[FR Doc. 2025-23537 Filed 12-19-25; 8:45 am]

BILLING CODE 4312-52-P